DEPARTMENT OF ENERGY

Federal Energy Regulatory Commission

[Docket No. EG01-39-000]

Duke Energy McClain, L.L.C.; Notice of Amendment of Application for Commission Determination of Exempt Wholesale Generator Status

February 5, 2001.

Take notice that on January 18, 2001, Duke Energy McClain, LLC (Duke McClain), tendered for filing an amendment with the Federal Energy Regulatory Commission to its Application for Commission Determinations of Exempt Wholesale Generator Status which was filed on December 1, 2000, in the above-referenced docket.

Duke McClain requests that the reference to “gas storage” activities be stricken from its Application. Duke McClain has also requested expedited consideration of its Application as modified.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before February 15, 2001, and must be served on the applicant. Any person wishing to become a party must file a motion to intervene. Copies of this filing are on file with the Commission and are available for public inspection or on the internet at http://www.ferc.fed.us/online/rims.htm (please call (202) 208-2222 for assistance).

Linwood A. Watson, Jr.,
Acting Secretary.

[FR Doc. 01-3339 Filed 2-8-01; 8:45 am]

BILLING CODE 6717-01-M